EQUAL EMPLOYMENT OPPORTUNITY COMMISSION

Agency Information Collection Activities: Proposed Collection; Submission for OMB Review

AGENCY: Equal Employment Opportunity Commission.

ACTION: Final Notice of Submission for OMB Review—Extension Without Change: Local Union Report (EEO-3).

SUMMARY: In accordance with the Paperwork Reduction Act, the Equal Employment Opportunity Commission (EEOC or Commission) announces that it is submitting to the Office of Management and Budget (OMB) a request for a three-year extension without change of the Local Union Report (EEO-3) (Form 274).

DATES: Written comments on this notice must be submitted on or before February 23, 2017.

ADDRESSES: Comments on this notice must be submitted to Joseph B. Nye, Policy Analyst, Office of Information and Regulatory Affairs, Office of Management and Budget, 725 17th Street NW., Washington, DC 20503, email oira_submission@omb.eop.gov. Commenters are also encouraged to send comments to the EEOC online at http://www.regulations.gov, which is the Federal eRulemaking Portal. Follow the instructions on the Web site for submitting comments. In addition, the EEOC's Executive Secretariat will accept comments in hard copy. Hard copy comments should be sent to Bernadette Wilson, Acting Executive Officer, EEOC, 131 M Street NE., Washington, DC 20507. Finally, the Executive Secretariat will accept comments totaling six or fewer pages by facsimile (“fax”) machine before the same deadline at (202) 663-4114. (This is not a toll-free number.) Receipt of fax transmittals will not be acknowledged, except that the sender may request confirmation of receipt by calling the Executive Secretariat staff at (202) 663-4070 (voice) or (202) 663-4074 (TTY). (These are not toll-free telephone numbers.) The EEOC will post online at http://www.regulations.gov all comments submitted via this Web site, in hard copy, or by fax to the Executive Secretariat. These comments will be posted without change, including any personal information you provide. However, the EEOC reserves the right to refrain from posting libelous or otherwise inappropriate comments including those that contain obscene, indecent, or profane language; that contain threats or defamatory statements; that contain hate speech directed at race, color, sex, national origin, age, religion, disability, or genetic information; or that promote or endorse services or products. All comments received, including any personal information provided, also will be available for public inspection during normal business hours by appointment only at the EEOC Headquarters Library, 131 M Street NE., Washington, DC 20507. Upon request, individuals who require assistance viewing comments will be provided appropriate aids such as readers or print magnifiers. To schedule an appointment, contact EEOC Library staff at (202) 663-4630 (voice) or (202) 663-4641 (TTY). (These are not toll-free numbers.)

FOR FURTHER INFORMATION CONTACT: Ronald Edwards, Director, Program Research and Surveys Division, Equal Employment Opportunity Commission, 131 M Street NE., Room 4SW30F, Washington, DC 20507; (202) 663-4949 (voice) or (202) 663-7063 (TTY). Requests for this notice in an alternative format should be made to the Office of Communications and Legislative Affairs at (202) 663-4191 (voice) or (202) 663-4494 (TTY).

SUPPLEMENTARY INFORMATION: The EEOC has collected information from local unions on the EEO-3 form since 1967. A notice that EEOC would be submitting this request was published in the Federal Register on September 13, 2016 allowing for a 60-day public comment period. There were no comments received from the public.

Overview of Information Collection

Collection Title: Local Union Report (EEO-3).

OMB Number: 3046-0006.

Frequency of Report: Biennial.

Type of Respondent: Referral local unions with 100 or more members.

Description of Affected Public: Referral local unions and independent or unaffiliated referral unions and similar labor organizations.

Responses: 1,075.¹

¹ This figure differs from the estimated number of respondents provided in the September 13, 2016 Federal Register notice. The figure was changed to reflect the most current information on the number of EEO-3 filers.

Biennial Reporting Hours: 2203.75.

Biennial Cost Burden: $90,885.34.

Biennial Federal Cost: $81,935.

Number of Forms: 1.

Form Number: EEOC Form 274.

Abstract: Section 709(c) of Title VII of the Civil Rights Act of 1964, as amended, 42 U.S.C. 2000e-8(c), requires labor organizations to make and keep records relevant to a determination of whether unlawful employment practices have been or are being committed and to produce reports from the data. The EEOC issued regulations requiring referral local unions with 100 or more members to submit EEO-3 reports. The individual reports are confidential. The EEOC uses EEO-3 data to investigate charges of discrimination and for research.

Burden Statement: The EEOC has updated its methodology for calculating annual burden to reflect the different staff that are responsible for preparing and filing the EEO-3. The EEOC now accounts for time to be spent biennially on EEO-3 reporting by business agents and administrative staff, as well as time spent by attorneys who, in a few cases, may consult briefly during the reporting process. As shown in Table 1 below, we estimate that Secretaries/Administrative Assistants and Business Agents will each spend 1 hour per report, and Legal Counsel will spend .05 hour per report. The estimated number of respondents included in the biennial EEO-3 survey is 1,075 referral unions, as this is the number of filers from the 2014 reporting cycle. Table 1, below, was utilized to quantify estimates of the annual burden of EEO-3 survey respondents. Burden hour cost was calculated using median hourly wage rates for administrative staff and legal counsel, and average hourly wage rates for labor union business agents.² The estimated hour burden per report will be 2.05 hours, and the estimated total biennial respondent burden hours will be 2,203.75. The burden hour cost per respondent will be $84.54, and the estimated total biennial burden hour cost for all respondents will be $90,885.34. (See Table 1 for calculations.)

² Median hourly wage rates for administrative staff and legal counsel were obtained from the Bureau of Labor Statistics (see U.S. Dept. of Labor, Bureau of Labor Statistics, Occupational Outlook Handbook, http://www/bls.gov/ooh/) and the average hourly wage rate for a labor union business agent was obtained from salaryexpert.com (see https://www.salaryexpert.com/salarysurveydata/job=labor-union-business-agent/salary).

Table 1—Estimate of Burden for EEO-3 Report
Local referral union staff | Hourly wage rate | Hours per local | Cost per local ³ | Total burden hours ⁴ | Total burden hour cost ⁵
Number of Local Unions = 1075
Secretaries and Administrative Assistants | $17.55 | 1 | $17.55 | 1075 | $18866.25
Business Agent | 64.21 | 1 | 64.21 | 1075 | 69025.75
Legal Counsel | 55.69 | 0.05 | 2.7845 | 53.75 | 2993.3375
Total | 137.45 | 2.05 | 84.5445 | 2203.75 | 90885.3375

Estimated burden hours were calculated by multiplying the number of reports expected to be filed biennially (1,075 in 2014) by the estimated average time to complete and submit each report (2.05 hours). These estimates are based on an assumption of paper reporting. However, the EEOC has made electronic filing much easier for respondents required to file the EEO-3 Report. As a result, more jurisdictions are using this filing method. This development, along with the greater availability of human resource information software, is expected to have significantly reduced the actual burden of reporting, but empirical data in this area is lacking. The Commission continues to develop more reliable estimates of reporting burdens given the significant increase in electronic filing and explore new approaches to make such reporting even less burdensome. In order to help reduce survey burden, respondents are encouraged to report data electronically whenever possible.

³ The figures in this column were calculated by multiplying the figures in the Hourly Wage Rate column by those in the Hours Per Local Column.

⁴ The figures in this column were calculated by multiplying the figures in the Hours Per Local column by 1075, the total number of respondents.

⁵ The figures in this column were calculated by multiplying the figures in the Cost Per Local column by 1075, the total number of respondents.

Dated: January 13, 2017.
For the Commission.
Jenny R. Yang,
Chair.

[FR Doc. 2017-01558 Filed 1-23-17; 8:45 am]

BILLING CODE 6570-01-P